DEPARTMENT OF COMMERCE

National Oceanic and Atmospheric Administration

[Docket No. 030509119-3269-03; I.D. 103003B]

Magnuson-Stevens Act Provisions; Fishing Capacity Reduction Program; Pacific Coast Groundfish Fishery; California, Washington, and Oregon Fisheries for Coastal Dungeness Crab and Pink Shrimp

AGENCY: National Marine Fisheries Service (NMFS), National Oceanic and Atmospheric Administration, Commerce.

ACTION: Notice of fishing capacity reduction payment tender.

SUMMARY: NMFS issues this notice to inform the public about tendering reduction payments under the Pacific Coast groundfish fishing capacity reduction program. NMFS has accepted reduction bids. A successful referendum has approved the reduction loan repayment fees. NMFS is ready to tender reduction payments to accepted bidders.

ADDRESSES: Send questions about this notice to Michael L. Grable, Chief, Financial Services Division, National Marine Fisheries Service, 1315 East-West Highway, Silver Spring, MD 20910-3282.

FOR FURTHER INFORMATION CONTACT: Michael L. Grable, (301) 713-2390.

SUPPLEMENTARY INFORMATION:

I. Background

Congress enacted the Pacific Coast groundfish fishing capacity reduction program (“program”) on February 20, 2003. The program's objective is reducing the fishery's harvesting capacity. This helps financially stabilize this limited-entry fishery.

NMFS implemented the program by Federal Register notification. It published the initial notification on May 28, 2003 (68 FR 31653) and the final notification on July 18, 2003 (68 FR 42613). Persons wanting further program details should refer to these notifications.

This is a voluntary program. Program participants permanently relinquish their fishing permits. Their vessels can never fish again. The Program also involves the California, Washington, and Oregon fisheries for Dungeness crab and pink shrimp. Bidders who have these permits relinquish them along with their groundfish trawl permits.

The program's maximum cost is $46 million. A 30-year loan finances $36 million. Future fish landing fees repay the loan. Each of the seven fisheries involved pays fees at different rates. Congress appropriated the remaining $10 million of the program's cost.

Groundfish permit holders bid for reduction payments. NMFS scores each bid amount against the bidder's past ex-vessel revenues. A reverse auction accepts bids whose amounts are the lowest percentages of revenues. This creates reduction contracts.

A referendum about the fees follows the bidding process. The reduction contracts become void unless the majority of votes cast in the referendum approve the fees. All seven fisheries vote in the referendum. A statutory formula assigns different weights to each fishery's votes.

II. Present Status

NMFS invited program bids on July 18, 2003. The bidding period opened on August 4, 2003, and closed on August 29, 2003. One hundred eight groundfish permit owners submitted bids. These totaled $59,786,471. NMFS accepted 92 bids. These totaled $45,752,471. The next lowest scoring bid would have exceeded the program's maximum cost. The accepted bids involved 92 fishing vessels as well as 240 fishing permits. Ninety two of the permits were groundfish trawl permits. One hundred twenty one were crab and shrimp permits. The remaining 27 were other Federal permits.

NMFS mailed ballots to referendum voters on September 30, 2003. The voting period opened on October 15, 2003. It closed on October 29, 2003. NMFS received 1,105 timely votes. After weighting, 85.85 percent of the votes approved the fees. The referendum was successful. The reduction contracts are in full force and effect.

III. Purpose

NMFS publishes this notification to inform the public before tendering reduction payments to the 92 accepted bidders. On December 4, 2003, accepted bidders must permanently stop all further fishing with the reduction vessels and permits. NMFS will revoke the relinquished Federal permits. NMFS will advise California, Oregon, and Washington about the relinquished state permits. NMFS will notify the National Vessel Documentation Center to revoke the reduction vessels' fisheries endorsement. NMFS will also notify the U.S. Maritime Administration to restrict these vessels' transfer to foreign ownership or registry.

This notification begins the 30-day period and puts the public (including vessel or permit creditors) on notice. See the adjacent table for accepted bidders, vessels, and permits.

IV. Accepted Bidders, Vessels, and Permits

Accepted bidder | Vessel: Name | Vessel: Official No. | Permit: Fishery | Permit: Number
AMBITION, INC | EUROCLYDON | 913987 | ENDORSEMENT WITH TRAWL GEAR in NWR | GF0636
AMBITION, INC | EUROCLYDON | 913987 | SHRIMP in CA | 41581
AMBITION, INC | EUROCLYDON | 913987 | SHRIMP in OR | 90107
AMBITION, INC | EUROCLYDON | 913987 | SHRIMP in WA | 57343
AMY LYNN FISHERIES, INC | AMY LYNN | 616194 | ENDORSEMENT WITH TRAWL GEAR in NWR | GF0415
AMY LYNN FISHERIES, INC | AMY LYNN | 616194 | HIGH SEAS in HSF | 616194
AMY LYNN FISHERIES, INC | AMY LYNN | 616194 | SHRIMP in WA | 57505
AMY LYNN FISHERIES, INC | AMY LYNN | 616194 | CRAB in WA | 58177
AMY LYNN FISHERIES, INC | AMY LYNN | 616194 | SHRIMP in OR | 90100
ANDERSON, MICHAEL B | PACIFIC MAID | 973740 | ENDORSEMENT WITH TRAWL GEAR IN NWR | GF0267
ANDERSON, MICHAEL B | PACIFIC MAID | 973740 | SHRIMP in CA | 43150
ANDERSON, MICHAEL B | PACIFIC MAID | 973740 | CRAB in CA | 43150
B & J FISHERIES, INC | CAPTAIN WES | 508593 | ENDORSEMENT WITH TRAWL GEAR IN NWR | GF0047
B & J FISHERIES, INC | CAPTAIN WES | 508593 | SHRIMP in CA | 32867
B & J FISHERIES, INC | CAPTAIN WES | 508593 | SHRIMP in OR | 90027
BERGERSON, DARRYL | SARA FRANCES | 245569 | ENDORSEMENT WITH TRAWL GEAR IN NWR | GF0368
BERGERSON, DARRYL | SARA FRANCES | 245569 | HIGH SEAS in HSF | 245569
BERGERSON, DARRYL | SARA FRANCES | 245569 | SHRIMP in OR | 90180
BISCHOP, DONALD D AND BISCHOP, CHARMAINE | MERLUCCIUS | 551451 | ENDORSEMENT WITH TRAWL GEAR IN NWR | GF0117
BISCHOP, DONALD D AND BISCHOP, CHARMAINE | MERLUCCIUS | 551451 | SHRIMP in CA | 22888
BLUE PACIFIC BLUE FISHERIES, INC | BLUE HORIZON | 598179 | ENDORSEMENT WITH TRAWL GEAR IN NWR | GF0079
BLUE PACIFIC FISHERIES, INC | BLUE HORIZON | 598179 | HIGH SEAS in HSF | 598179
BOSCHKE, CHARLES A AND BOSCHKE, NANCY LEE | CARLA R | 541450 | HIGH SEAS in HSF | 541450
BOSCHKE, CHARLES A AND BOSCHKE, NANCY LEE | CARLA R | 541450 | ENDORSEMENT WITH TRAWL GEAR IN NWR | GF0217
BOY, GREG N AND BOY, SUSAN A | SUSAN NICOLE | 605313 | ENDORSEMENT WITH TRAWL GEAR IN NWR | GF0330
BOY, GREG N AND BOY, SUSAN A | SUSAN NICOLE | 605313 | SHRIMP in OR | 90104
BRADLEY, STEVEN W AND BRADLEY, JOELLE M | PACIFIC CRIER | 517902 | ENDORSEMENT WITH TRAWL GEAR IN NWR | GF0442
BRADLEY, STEVEN W AND BRADLEY, JOELLE M | PACIFIC CRIER | 517902 | HIGH SEAS in HSF | 517902
BRADLEY, STEVEN W AND BRADLEY, JOELLE M | PACIFIC CRIER | 517902 | CRAB in CA | 18224
BRADSHAW, CALVIN W | DAPHNE | 245872 | ENDORSEMENT WITH TRAWL GEAR in NWR | GF0444
BRADSHAW, CALVIN W | DAPHNE | 245872 | CRAB in CA | 5773
BREEN, ROBERT AND DOHERTY, JOHN | JONATHAN | 587508 | ENDORSEMENT WITH TRAWL GEAR in NWR | GF0743
BREEN, ROBERT AND DOHERTY, JOHN | JONATHAN | 587508 | SHRIMP in CA | 43101
BRISCOE JR, ROBERT AND BRISCOE, CAROL | STARLIGHT | 900453 | ENDORSEMENT WITH TRAWL GEAR in NWR | GF0738
BRISCOE JR, ROBERT AND BRISCOE, CAROL | STARLIGHT | 900453 | HIGH SEAS in HSF | 900453
BRISCOE JR, ROBERT AND BRISCOE, CAROL | STARLIGHT | 900453 | CRAB in WA | 59966
BROOK HARBOR INC | PAM BAY | 509492 | ENDORSEMENT WITH TRAWL GEAR in NWR | GF0311
BROOK HARBOR INC | PAM BAY | 509492 | SHRIMP in CA | 19663
BROOK HARBOR INC | PAM BAY | 509492 | CRAB in CA | 19663
BROOK HARBOR INC | PAM BAY | 509492 | SHRIMP in OR | 90040
BROWN, CHARLES S | FRIENDSHIP | 562427 | ENDORSEMENT WITH TRAWL GEAR in NWR | GF0061
BROWN, CHARLES S | FRIENDSHIP | 562427 | HIGH SEAS in HSF | 562427
BROWN, CHARLES S | FRIENDSHIP | 562427 | SHRIMP in WA | 57545
BROWN, RALPH H AND STAGG, LINDA K | ALOMA | 623611 | ENDORSEMENT WITH TRAWL GEAR in NWR | GF0193
BROWN, RALPH H AND STAGG, LINDA K | ALOMA | 623611 | SHRIMP in OR | 90217
BURNS ENTERPRISES, INC | SLEEP ROBBER | 591482 | ENDORSEMENT WITH TRAWL GEAR in NWR | GF0862
BURNS ENTERPRISES, INC | SLEEP ROBBER | 591482 | HIGH SEAS in HSF | 591482
BURNS ENTERPRISES, INC | SLEEP ROBBER | 591482 | CRAB in OR | 96013
BURNS ENTERPRISES, INC | SLEEP ROBBER | 591482 | SHRIMP in CA | 44008
BURNS ENTERPRISES, INC | SLEEP ROBBER | 591482 | SHRIMP in OR | 90187
CAL-ALASKA FISH, INC | RESTLESS C II | 555025 | ENDORSEMENT WITH TRAWL GEAR in NWR | GF0237
CAPT JACK, INC | CAPT JACK | 516976 | ENDORSEMENT WITH TRAWL GEAR in NWR | GF0028
CAPT JACK, INC | CAPT JACK | 516976 | SHRIMP in OR | 90188
CAPT JACK, INC | CAPT JACK | 516976 | CRAB in OR | 96469
CROWLEY, DANIEL T AND CROWLEY, DEBORAH E | CHEROKEE | 264573 | ENDORSEMENT WITH TRAWL GEAR in NWR | GF0703
DMJ, INC | DAKOTA | 246957 | ENDORSEMENT WITH TRAWL GEAR in NWR | GF0753
EVANOW, KARL M | CAPTAIN BRADLEY | 505444 | ENDORSEMENT WITH TRAWL GEAR in NWR | GF0660
EVANOW, KARL M | CAPTAIN BRADLEY | 505444 | SHRIMP in CA | 24177
EVANOW, KARL M | CAPTAIN BRADLEY | 505444 | CRAB in CA | 24177
EVANS, PHILLIP NORMAN AND EVANS, WANDA SUE | KINCHEL'OE | 240804 | ENDORSEMENT WITH TRAWL GEAR in NWR | GF0592
EVANS, TRAVIS O AND EVANS, KATHERINE R | SIERRA MADRE | 522508 | ENDORSEMENT WITH TRAWL GEAR in NWR | GF0037
F/V CAITO BROS, INC | CAITO BROS | 238136 | ENDORSEMENT WITH TRAWL GEAR in NWR | GF0067
F/V CAITO BROS, INC | CAITO BROS | 238136 | SHRIMP in CA | 1
F/V CAITO BROS, INC | CAITO BROS | 238136 | CRAB in CA | 1
F/V CHRISTIE R, INC | CHRISTIE R | 553235 | ENDORSEMENT WITH TRAWL GEAR in NWR | GF0448
F/V GABRIELE, INC | GABRIELE | 947061 | ENDORSEMENT WITH TRAWL GEAR in NWR | GF0554
F/V GABRIELE, INC | GABRIELE | 947061 | HIGH SEAS in HSF | 947061
F/V GABRIELE, INC | GABRIELE | 947061 | CRAB in OR | 96337
F/V GABRIELE, INC | GABRIELE | 947061 | CRAB in CA | 42671
F/V GABRIELE, INC | GABRIELE | 947061 | SHRIMP in OR | 90177
F/V HIGH SEA, INC | HIGH SEA | 532504 | ENDORSEMENT WITH TRAWL GEAR in NWR | GF0535
F/V HIGH SEA, INC | HIGH SEA | 532504 | SHRIMP in CA | 20308
F/V HIGH SEA, INC | HIGH SEA | 532504 | CRAB in CA | 20308
F/V ROSE MARIE, INC | CATHERINE ANN | 634144 | ENDORSEMENT WITH TRAWL GEAR in NWR | GF0970
F/V ROSE MARIE, INC | CATHERINE ANN | 634144 | SHRIMP in CA | 38037
FEMLING, ARTHUR O AND FEMLING, ETHEL M | LUCKY STRIKE | 254713 | ENDORSEMENT WITH TRAWL GEAR in NWR | GF0690
FINZER FISHING, INC | ST. JANET | 516881 | BERING SEA GROUNDFISH in AKR | LLG1629
FINZER FISHING, INC | ST. JANET | 516881 | ENDORSEMENT WITH TRAWL GEAR in NWR | GF0912
FINZER FISHING, INC | ST. JANET | 516881 | HIGH SEAS in HSF | 516881
GALLAWAY, WILLIAM H | ALIBI | 250516 | ENDORSEMENT WITH TRAWL GEAR in NWR | GF0483
GALLAWAY, WILLIAM H | ALIBI | 250516 | SHRIMP in CA | 8435
GALLAWAY, WILLIAM H | ALIBI | 250516 | CRAB in CA | 8435
GAVIN-YOUNG, GP | TWO SISTERS | 572657 | ENDORSEMENT WITH TRAWL GEAR in NWR | GF0304
GAVIN-YOUNG, GP | TWO SISTERS | 572657 | SHRIMP in CA | 28939
GAVIN-YOUNG, GP | TWO SISTERS | 572657 | CRAB in CA | 28939
GAVIN-YOUNG, GP | TWO SISTERS | 572657 | SHRIMP in OR | 90013
GHERA, MICHAEL J | AQUARIUS | 250385 | ENDORSEMENT WITH TRAWL GEAR in NWR | GF0608
GHERA, MICHAEL J | AQUARIUS | 250385 | SHRIMP in CA | 2633
GHERA, MICHAEL J | AQUARIUS | 250385 | CRAB in CA | 2633
GUNNARI, ROY E AND GUNNARI, ALICE I AND GREEN, DONALD WESLEY | BILLIE JEAN | 505917 | ENDORSEMENT WITH TRAWL GEAR in NWR | GF0162
GUNNARI, ROY E AND GUNNARI, ALICE I AND GREEN, DONALD WESLEY | BILLIE JEAN | 505917 | SHRIMP in OR | 90022
HODGES, MICHAEL E | KANGAROO | 501228 | ENDORSEMENT WITH TRAWL GEAR in NWR | GF0413
HODGES, MICHAEL E | KANGAROO | 501228 | SHRIMP in OR | 90134
HODGES, MICHAEL E | KANGAROO | 501228 | CRAB in OR | 96474
HODGES, MICHAEL E | BETTY A | 526744 | ENDORSEMENT WITH TRAWL GEAR in NWR | GF0404
HODGES, MICHAEL E | BETTY A | 526744 | HIGH SEAS in HSF | 526744
HODGES, MICHAEL E | BETTY A | 526744 | SHRIMP in OR | 90096
HOLM, HERBERT L AND HOLM, PHILOMENA M | JO-ELLEN | 507051 | ENDORSEMENT WITH TRAWL GEAR in NWR | GF0165
HUNTER, WILLIAM C AND HUNTER, G A | TRAVIS WM | 645476 | ENDORSEMENT WITH TRAWL GEAR in NWR | GF0264
HUNTERS OFFSHORE ENTERPRISES, INC | EL CERRITO | 242928 | ENDORSEMENT WITH TRAWL GEAR in NWR | GF0299
HUNTERS OFFSHORE ENTERPRISES, INC | DENNIS GAYLE | 252763 | ENDORSEMENT WITH TRAWL GEAR in NWR | GF0259
HUNTERS OFFSHORE ENTERPRISES, INC | WINGA | 238849 | ENDORSEMENT WITH TRAWL GEAR in NWR | GF0266
HUNTERS OFFSHORE ENTERPRISES, INC | WINGA | 238849 | CRAB in CA | 6850
HUNTERS OFFSHORE ENTERPRISES, INC | ALLEN CODY | 255400 | ENDORSEMENT WITH TRAWL GEAR in NWR | GF0258
HUNTERS OFFSHORE ENTERPRISES, INC | OREGON FLYER | 601255 | ENDORSEMENT WITH TRAWL GEAR in NWR | GF0260
JACKSON, ROBERT D AND JACKSON, SHIRLEY L | JOHN ALLEN | 564289 | ENDORSEMENT WITH TRAWL GEAR in NWR | GF0097
JACKSON, ROBERT D AND JACKSON, SHIRLEY L | JOHN ALLEN | 564289 | CRAB in OR | 96411
JACKSON, ROBERT D AND JACKSON, SHIRLEY L | JOHN ALLEN | 564289 | SHRIMP in OR | 90055
JAMES, FRANK AND JAMES, SYLVIA | LIMIT STALKER | 299016 | ENDORSEMENT WITH TRAWL GEAR in NWR | GF0817
JAMES, FRANK AND JAMES, SYLVIA | LIMIT STALKER | 299016 | SHRIMP in WA | 58003
JAMES, FRANK AND JAMES, SYLVIA | LIMIT STALKER | 299016 | SHRIMP in OR | 90195
JOHNSON, CARROLL R | OUTLAW | 512922 | ENDORSEMENT WITH TRAWL GEAR in NWR | GF0474
JOHNSON, CARROLL R | OUTLAW | 512922 | SHRIMP in CA | 19278
JOHNSON, CARROLL R | OUTLAW | 512922 | CRAB in CA | 19278
KRIZ, MICHAEL L | MERRICK LYNN | 600712 | ENDORSEMENT WITH TRAWL GEAR in NWR | GF0147
KRIZ, MICHAEL L | MERRICK LYNN | 600712 | SHRIMP in OR | 90006
LARKIN, MARION | LARKIN | 599703 | ENDORSEMENT WITH TRAWL GEAR in NWR | GF0135
LARKIN, MARION | LARKIN | 599703 | HIGH SEAS in HSF | 599703
LARKIN, MARION | LARKIN | 599703 | SHRIMP in WA | 59642
LICATA, FRANCESCO AND LICATA, CATERINA | GENERAL PERSHING | 229344 | ENDORSEMENT WITH TRAWL GEAR in NWR | GF0531
LUDAHL JR, ERNEST LEROY | CC & GLORIA | 505269 | ENDORSEMENT WITH TRAWL GEAR in NWR | GF0785
M/V STEPHANIE, INC | STEPHANIE | 215869 | ENDORSEMENT WITH TRAWL GEAR in NWR | GF0575
MCGEE, WAYNE F | MI-LO | 503972 | ENDORSEMENT WITH TRAWL GEAR in NWR | GF0742
MCLAUGHLIN, LYNNE S | CANDI B | 600669 | ENDORSEMENT WITH TRAWL GEAR in NWR | GF0329
MCLAUGHLIN, LYNNE S | CANDI B | 600669 | SHRIMP in CA | 32727
MISS LINDA FISHERIES, INC | MISS LINDA | 944169 | ENDORSEMENT WITH TRAWL GEAR in NWR | GF0088
MISS LINDA FISHERIES, INC | MISS LINDA | 944169 | HIGH SEAS in HSF | 944169
MISS LINDA FISHERIES, INC | MISS LINDA | 944169 | SHRIMP in CA | 40924
MISS LINDA FISHERIES, INC | MISS LINDA | 944169 | SHRIMP in WA | 57908
MISS LINDA FISHERIES, INC | MISS LINDA | 944169 | SHRIMP in OR | 90205
MORRISON, THOMAS H | PACIFIC QUEEN | 249564 | ENDORSEMENT WITH TRAWL GEAR in NWR | GF0034
NEW WASHINGTON FISHERIES, INC | NEW WASHINGTON | 236389 | ENDORSEMENT WITH TRAWL GEAR in NWR | GF0153
NEW WASHINGTON FISHERIES, INC | NEW WASHINGTON | 236389 | HIGH SEAS in HSF | 236389
NYHUS, RICHARD E AND NYHUS, TRINA M | CATHY G | 538806 | ENDORSEMENT WITH TRAWL GEAR in NWR | GF0134
NYHUS, RICHARD E AND NYHUS, TRINA M | CATHY G | 538806 | SHRIMP in WA | 57388
NYHUS, RICHARD E AND NYHUS, TRINA M | CATHY G | 538806 | SHRIMP in OR | 90199
NYLANDER, CHERYL | SEA SIREN | 588685 | ENDORSEMENT WITH TRAWL GEAR in NWR | GF0089
NYLANDER, CHERYL | SEA SIREN | 588685 | HIGH SEAS in HSF | 588685
OLYMPIC FISHERIES, INC | OLYMPIC | 590263 | ENDORSEMENT WITH TRAWL GEAR in NWR | GF0077
OLYMPIC FISHERIES, INC | OLYMPIC | 590263 | HIGH SEAS in HSF | 590263
OLYMPIC FISHERIES, INC | OLYMPIC | 590263 | SHRIMP in WA | 57984
OLYMPIC FISHERIES, INC | OLYMPIC | 590263 | SHRIMP in OR | 90093
PACIFIC STORM, INC | PACIFIC STORM | 604146 | ENDORSEMENT WITH TRAWL GEAR in NWR | GF0354
PACIFIC STORM, INC | PACIFIC STORM | 604146 | HIGH SEAS in HSF | 604146
PACIFIC STORM, INC | PACIFIC STORM | 604146 | CRAB in OR | 96412
PACIFIC STORM, INC | PACIFIC STORM | 604146 | SHRIMP in OR | 90074
PACIFIC SUN FISHERIES, INC | PACIFIC SUN IV | 558072 | ENDORSEMENT WITH TRAWL GEAR in NWR | GF0502
PACIFIC SUN FISHERIES, INC | PACIFIC SUN IV | 558072 | HIGH SEAS in HSF | 558072
PACIFIC SUN FISHERIES, INC | PACIFIC SUN IV | 558072 | SHRIMP in WA | 57453
PACIFIC SUN FISHERIES, INC | PACIFIC SUN IV | 558072 | CRAB in WA | 59937
PACIFIC SUN FISHERIES, INC | PACIFIC SUN IV | 558072 | SHRIMP in OR | 90165
PANDALUS, INC | GINNY & JILL | 299098 | ENDORSEMENT WITH TRAWL GEAR in NWR | GF0045
PANDALUS, INC | GINNY & JILL | 299098 | CRAB in OR | 96197
PANDALUS, INC | GINNY & JILL | 299098 | SHRIMP in CA | 34788
PANDALUS, INC | GINNY & JILL | 299098 | SHRIMP in OR | 90003
PARKER, DANNY D AND PARKER, SHERRIE R | SEA EAGLE | 924174 | ENDORSEMENT WITH TRAWL GEAR in NWR | GF0455
PARKER, DANNY D AND PARKER, SHERRIE R | SEA EAGLE | 924174 | SHRIMP in OR | 90125
PERSISTENCE FISHERIES, INC | PERSISTENCE | 581823 | ALEUTIAN ISLANDS GROUNDFISH in AKR | LLG1663
PERSISTENCE FISHERIES, INC | PERSISTENCE | 581823 | ENDORSEMENT WITH TRAWL GEAR in NWR | GF0255
PERSISTENCE FISHERIES, INC | PERSISTENCE | 581823 | SOUTHEAST OUTSIDE GROUNDFISH in AKR | LLG1663
PERSISTENCE FISHERIES, INC | PERSISTENCE | 581823 | SHRIMP in OR | 90128
PETTINGER, BRADLEY G | CASSIE | 554975 | ENDORSEMENT WITH TRAWL GEAR in NWR | GF0822
PETTINGER, BRADLEY G | CASSIE | 554975 | SHRIMP in CA | 36891
PETTINGER, BRADLEY G | CASSIE | 554975 | SHRIMP in OR | 90224
PETTINGER, DAVID W | CHANTAL C | 514043 | ENDORSEMENT WITH TRAWL GEAR in NWR | GF0558
PETTINGER, DAVID W | CHANTAL C | 514043 | CRAB in OR | 96066
PETTINGER, DAVID W | CHANTAL C | 514043 | SHRIMP in OR | 90139
PINTO, KEVIN AND PINTO, CAROL LEE | JENNA LEE | 298016 | ENDORSEMENT WITH TRAWL GEAR in NWR | GF0085
POMILIA, VICTOR | SPIRIT OF '76 | 571021 | ENDORSEMENT WITH TRAWL GEAR in NWR | GF0312
POMILIA, VICTOR | SPIRIT OF '76 | 571021 | SHRIMP in CA | 27095
POMILIA, VICTOR | SPIRIT OF '76 | 571021 | CRAB in CA | 27095
POMILIA, VICTOR | SPIRIT OF '76 | 571021 | SHRIMP in WA | 60913
POMILIA, VICTOR | SPIRIT OF '76 | 571021 | SHRIMP in OR | 90228
RETHERFORD, MICHAEL S AND RETHERFORD, KELLEY S | KELLEY GIRL | 527001 | ENDORSEMENT WITH TRAWL GEAR in NWR | GF0253
RETHERFORD, MICHAEL S AND RETHERFORD, KELLEY S | KELLEY GIRL | 527001 | SHRIMP in WA | 59355
RETHERFORD, MICHAEL S AND RETHERFORD, KELLEY S | KELLEY GIRL | 527001 | SHRIMP in OR | 90133
RIPKA, GARY A AND RIPKA, SHERRI | PACIFIC BREEZE | 560081 | ENDORSEMENT WITH TRAWL GEAR in NWR | GF0668
RIPKA, GARY A AND RIPKA, SHERRI | PACIFIC BREEZE | 560081 | CRAB in OR | 96281
RIPKA, GARY A AND RIPKA, SHERRI | PACIFIC BREEZE | 560081 | SHRIMP in WA | 57439
RIPKA, GARY A AND RIPKA, SHERRI | PACIFIC BREEZE | 560081 | SHRIMP in OR | 90101
ROSAAEN, TERRY M | TATIANA | 632123 | ENDORSEMENT WITH TRAWL GEAR in NWR | GF0343
ROSAAEN, TERRY M | TATIANA | 632123 | HIGH SEAS in HSF | 632123
ROSAAEN, TERRY M | TATIANA | 632123 | SHRIMP in CA | 35814
ROSAAEN, TERRY M | TATIANA | 632123 | CRAB in CA | 35814
SCHNAUBELT, RICHARD AND SCHNAUBELT, EDWARD | CAPELLA | 611508 | ENDORSEMENT WITH TRAWL GEAR in NWR | GF0526
SCHNAUBELT, RICHARD AND SCHNAUBELT, EDWARD | CAPELLA | 611508 | SHRIMP in CA | 34114
SCHNAUBELT, RICHARD AND SCHNAUBELT, EDWARD | CAPELLA | 611508 | CRAB in CA | 34114
SEA TOI FISHERIES, INC | CAP'N OSCAR | 549436 | ENDORSEMENT WITH TRAWL GEAR in NWR | GF0170
SEA TOI FISHERIES, INC | CAP'N OSCAR | 549436 | SHRIMP in WA | 57467
SEA TOI FISHERIES, INC | CAP'N OSCAR | 549436 | SHRIMP in OR | 90115
SEATTLE FIRST NATIONAL BANK | PACIFIC O'RYAN | 608197 | ENDORSEMENT WITH TRAWL GEAR in NWR | GF0792
SHEPHERD, RICK | SUNSET | 225721 | ENDORSEMENT WITH TRAWL GEAR in NWR | GF0151
SHEPHERD, RICK | SUNSET | 225721 | SHRIMP in CA | 687
SHEPHERD, RICK | SUNSET | 225721 | CRAB in CA | 687
SMITH, J STANLEY AND SMITH, JANETTE AND SMITH, RANDY J | MISS JO ANNE | 529690 | ENDORSEMENT WITH TRAWL GEAR in NWR | GF0440
SMITH, J STANLEY AND SMITH, JANETTE AND SMITH, RANDY J | MISS JO ANNE | 529690 | SHRIMP in CA | 33034
SMITH, J STANLEY AND SMITH, JANETTE AND SMITH, RANDY J | MISS JO ANNE | 529690 | CRAB in CA | 33034
SMITH, J STANLEY AND SMITH, JANETTE AND SMITH, RANDY J | MISS JO ANNE | 529690 | SHRIMP in WA | 57416
SMITH, J STANLEY AND SMITH, JANETTE AND SMITH, RANDY J | MISS JO ANNE | 529690 | SHRIMP in OR | 90075
SMOTHERMAN, SALLY R | SEA BLAZER | 588240 | ENDORSEMENT TRAWL GEAR in NWR | GF0139
SMOTHERMAN, SALLY R | SEA BLAZER | 588240 | HIGH SEAS in HSF | 588240
SMOTHERMAN, SALLY R | SEA BLAZER | 588240 | SHRIMP in OR | 90084
STAFFENSON, DARRELL AND STAFFENSON, KERLYN | JULEAN II | 536809 | ENDORSEMENT WITH TRAWL GEAR in NWR | GF0123
STAFFENSON, DARRELL AND STAFFENSON, KERLYN | JULEAN II | 536809 | SHRIMP in OR | 90079
STAR POLARIS FISHERIES, INC | STAR POLARIS | 522618 | ENDORSEMENT WITH TRAWL GEAR in NWR | GF0774
STAR POLARIS FISHERIES, INC | STAR POLARIS | 522618 | HIGH SEAS in HSF | 522618
STAR POLARIS FISHERIES, INC | STAR POLARIS | 522618 | SHRIMP in OR | 90225
THOMPSON, JERYL D | LINDA ELLEN | 243269 | ENDORSEMENT WITH TRAWL GEAR in NWR | GF0506
THOMPSON, JERYL D | LINDA ELLEN | 243269 | SHRIMP in CA | 7201
THOMPSON, JERYL D | LINDA ELLEN | 243269 | CRAB in CA | 7201
TORACCA, GIOVANNI AND LEE, GORDON AND LEE, SHARON | DAY DREAM | 505277 | ENDORSEMENT WITH TRAWL GEAR in NWR | GF0110
VENTURE WEST, INC | VENTURE WEST | 606361 | ENDORSEMENT WITH TRAWL GEAR in NWR | GF0114
VENTURE WEST, INC | VENTURE WEST | 606361 | SHRIMP in OR | 90118
VENTURE WEST, INC | VENTURE WEST | 606361 | SHRIMP in CA | 33398
VERNA JEAN, GP | MISS HEATHER | 507945 | ENDORSEMENT WITH TRAWL GEAR in NWR | GF0302
VERNA JEAN, GP | MISS HEATHER | 507945 | HIGH SEAS in HSF | 507945
VOUGHT, TROY KENT | DANDY BILL | 585095 | ENDORSEMENT WITH TRAWL GEAR in NWR | GF0102
VOUGHT, TROY KENT | DANDY BILL | 585095 | HIGH SEAS in HSF | 585095
VOUGHT, TROY KENT | DANDY BILL | 585095 | SHRIMP in CA | 32468
WATERS, LARRY | MARIE ANN GAIL | 209773 | ENDORSEMENT WITH TRAWL GEAR in NWR | GF0282
WESTERN PACIFIC TRAWLERS, INC | PACIFIC RAIDER | 613704 | ENDORSEMENT WITH TRAWL GEAR in NWR | GF0356
WESTERN PACIFIC TRAWLERS, INC | PACIFIC RAIDER | 613704 | SHRIMP in OR | 90152
WILLIAMS, CHARLES J | YUROK | 607931 | ENDORSEMENT WITH TRAWL GEAR in NWR | GF0431
WILLIAMS, CHARLES J | YUROK | 607931 | CRAB in OR | 96354
WILLIAMS, CHARLES J | YUROK | 607931 | SHRIMP in CA | 34251
WILLIAMS, CHARLES J | YUROK | 607931 | CRAB in CA | 34251
WILLIAMS, CHARLES J | YUROK | 607931 | SHRIMP in OR | 90150
WOODEN, FORREST D | INTREPID | 605553 | ENDORSEMENT WITH TRAWL GEAR in NWR | GF0096
WOODEN, FORREST D | INTREPID | 605553 | HIGH SEAS in HSF | 605553
WOODEN, FORREST D | INTREPID | 605553 | SHRIMP in CA | 34566
WOODEN, FORREST D | INTREPID | 605553 | CRAB in CA | 34566
WOODEN, FORREST D | INTREPID | 605553 | SHRIMP in OR | 90071
YAQUINA BAY, INC | AJA | 587243 | ENDORSEMENT WITH TRAWL GEAR in NWR | GF0081
YAQUINA BAY, INC | AJA | 587243 | SHRIMP in OR | 90056
YOUNG, RICHARD D AND YOUNG, MARY L | WILLOLA | 591628 | ENDORSEMENT WITH TRAWL GEAR in NWR | GF0098
YOUNG, RICHARD D AND YOUNG, MARY L | WILLOLA | 591628 | SHRIMP in CA | 31325
YOUNG, RICHARD D AND YOUNG, MARY L | WILLOLA | 591628 | CRAB in CA | 31325
YOUNG, RICHARD D AND YOUNG, MARY L | CITY OF EUREKA | 241896 | ENDORSEMENT WITH TRAWL GEAR in NWR | GF0099
YOUNG, RICHARD D AND YOUNG, MARY L | CITY OF EUREKA | 241896 | SHRIMP in CA | 5601
YOUNG, RICHARD D AND YOUNG, MARY L | CITY OF EUREKA | 241896 | CRAB in CA | 5601

Authority: Pub. L. 107-206, Pub. L. 108-7, 16 U.S.C. 1861a(b-e), and 50 CFR 600.1000 et seq.

Dated: October 30, 2003.
William T. Hogarth,
Assistant Administrator for Fisheries, National Marine Fisheries Service.

[FR Doc. 03-27712 Filed 11-3-03; 8:45 am]

BILLING CODE 3510-22-P